DEPARTMENT OF ENERGY

Federal Energy Regulatory Commission

Combined Notice of Filings #1

Take notice that the Commission received the following electric corporate filings:

Docket Numbers: EC24-72-000.

Applicants: Morongo Transmission LLC, Axium Coachella Holdings LLC.

Description: Joint Application for Authorization Under Section 203 of the Federal Power Act of Morongo Transmission LLC, et al.

Filed Date: 4/23/24.

Accession Number: 20240423-5211.

Comment Date: 5 p.m. ET 5/14/24.

Docket Numbers: EC24-73-000.

Applicants: Orsted DevCo, LLC, Orsted DevCo II, LLC, Eversource Investment LLC, Sunrise Wind LLC.

Description: Application for Authorization Under Section 203 of the Federal Power Act of Sunrise Wind LLC.

Filed Date: 4/22/24.

Accession Number: 20240422-5369.

Comment Date: 5 p.m. ET 5/13/24.

Take notice that the Commission received the following exempt wholesale generator filings:

Docket Numbers: EG24-167-000.

Applicants: Markum Solar Farm, LLC.

Description: Markum Solar Farm, LLC submits Notice of Self-Certification of Exempt Wholesale Generator Status.

Filed Date: 4/24/24.

Accession Number: 20240424-5066.

Comment Date: 5 p.m. ET 5/15/24.

Take notice that the Commission received the following electric rate filings:

Docket Numbers: ER10-1982-017.

Applicants: Consolidated Edison Company of New York, Inc.

Description: Notice of Non-Material Change in Status of Consolidated Edison Company of New York, Inc., et al.

Filed Date: 4/19/24.

Accession Number: 20240419-5289.

Comment Date: 5 p.m. ET 5/10/24.

Docket Numbers: ER17-923-002.

Applicants: Ashley Energy LLC.

Description: Notice of Change in Status of Ashley Energy LLC.

Filed Date: 4/23/24.

Accession Number: 20240423-5217.

Comment Date: 5 p.m. ET 5/14/24.

Docket Numbers: ER20-55-003; ER21-772-003.

Applicants: Resi Station, LLC, OhmConnect, Inc.

Description: Notice of Change in Status of OhmConnect, Inc., et al.

Filed Date: 4/24/24.

Accession Number: 20240424-5228.

Comment Date: 5 p.m. ET 5/15/24.

Docket Numbers: ER23-618-002.

Applicants: Sandy Ridge Wind 2, LLC.

Description: Notice of Non-Material Change in Status of Sandy Ridge Wind 2, LLC.

Filed Date: 4/24/24.

Accession Number: 20240424-5210.

Comment Date: 5 p.m. ET 5/15/24.

Docket Numbers: ER24-1337-001.

Applicants: Alabama Power Company, Georgia Power Company, Mississippi Power Company.

Description: Tariff Amendment: Alabama Power Company submits tariff filing per 35.17(b): Three Rocks Solar LGIA Amendment Filing to be effective 2/15/2024.

Filed Date: 4/24/24.

Accession Number: 20240424-5079.

Comment Date: 5 p.m. ET 5/15/24.

Docket Numbers: ER24-1338-001.

Applicants: Alabama Power Company, Georgia Power Company, Mississippi Power Company.

Description: Tariff Amendment: Georgia Power Company submits tariff filing per 35.17(b): West Fork Solar LGIA Amendment Filing to be effective 2/15/2024.

Filed Date: 4/24/24.

Accession Number: 20240424-5077.

Comment Date: 5 p.m. ET 5/15/24.

Docket Numbers: ER24-1456-001.

Applicants: Tropicana Manufacturing Company Inc.

Description: Tariff Amendment: Amendment and Supplement to Application for Market-Based Rate Authority to be effective 5/13/2024.

Filed Date: 4/24/24.

Accession Number: 20240424-5224.

Comment Date: 5 p.m. ET 5/15/24.

Docket Numbers: ER24-1822-000.

Applicants: Cavalier Solar A, LLC.

Description: 205(d) Rate Filing: Normal filing 2024 SFA to be effective 6/17/2024.

Filed Date: 4/24/24.

Accession Number: 20240424-5002.

Comment Date: 5 p.m. ET 5/15/24.

Docket Numbers: ER24-1824-000.

Applicants: PJM Interconnection, L.L.C.

Description: 205(d) Rate Filing: Second Amended WMPA, Service Agreement No. 5696; AF1-140 to be effective 6/24/2024.

Filed Date: 4/24/24.

Accession Number: 20240424-5048.

Comment Date: 5 p.m. ET 5/15/24.

Docket Numbers: ER24-1825-000.

Applicants: Mid-Atlantic Interstate Transmission, LLC, PJM Interconnection, L.L.C.

Description: 205(d) Rate Filing: Mid-Atlantic Interstate Transmission, LLC submits tariff filing per 35.13(a)(2)(iii: MAIT submits one Construction Agreement, SA No. 6941 to be effective 6/24/2024.

Filed Date: 4/24/24.

Accession Number: 20240424-5102.

Comment Date: 5 p.m. ET 5/15/24.

Docket Numbers: ER24-1826-000.

Applicants: PJM Interconnection, L.L.C.

Description: 205(d) Rate Filing: Amendment to ISA, Service Agreement No. 5814; AD1-041/AE1-190/AE1-191 to be effective 6/24/2024.

Filed Date: 4/24/24.

Accession Number: 20240424-5134.

Comment Date: 5 p.m. ET 5/15/24.

Docket Numbers: ER24-1827-000.

Applicants: Southwest Power Pool, Inc.

Description: 205(d) Rate Filing: 4250 DG Woodward Energy Storage Surplus Interconnection GIA to be effective 6/23/2024.

Filed Date: 4/24/24.

Accession Number: 20240424-5167.

Comment Date: 5 p.m. ET 5/15/24.

Docket Numbers: ER24-1828-000.

Applicants: OhmConnect, Inc.

Description: 205(d) Rate Filing: Normal filing 2024 APR to be effective 4/25/2024.

Filed Date: 4/24/24.

Accession Number: 20240424-5199.

Comment Date: 5 p.m. ET 5/15/24.

Docket Numbers: ER24-1829-000.

Applicants: Resi Station, LLC.

Description: 205(d) Rate Filing: Normal filing 2024 APR to be effective 4/25/2024.

Filed Date: 4/24/24.

Accession Number: 20240424-5201.

Comment Date: 5 p.m. ET 5/15/24.

Docket Numbers: ER24-1830-000

Applicants: Alabama Power Company, Georgia Power Company, Mississippi Power Company.

Description: 205(d) Rate Filing: Alabama Power Company submits tariff filing per 35.13(a)(2)(iii: SEPA Amended and Restated Network Agreement Amendment Filing (Revision No. 13) to be effective 1/1/2024.

Filed Date: 4/24/24.

Accession Number: 20240424-5204.

Comment Date: 5 p.m. ET 5/15/24.

Docket Numbers: ER24-1831-000.

Applicants: Alabama Power Company, Georgia Power Company, Mississippi Power Company.

Description: 205(d) Rate Filing: Alabama Power Company submits tariff filing per 35.13(a)(2)(i): OATT Attachments M & N Amendments to Address Regulatory Assets and Liabilities to be effective 5/1/2024.

Filed Date: 4/24/24.

Accession Number: 20240424-5221.

Comment Date: 5 p.m. ET 5/15/24.

Take notice that the Commission received the following public utility holding company filings:

Docket Numbers: PH24-9-000.

Applicants: CAES, LLC, Electrodes Holdings, LLC, Watt Battery Holdings, LLC, Battery Storage Holdings, LLC, Sparks Battery Holdings, LLC, Sparks Battery Holdings 2, LLC.

Description: Joint Waiver Notification of CAES, LLC, et al. FERC 65-B Waiver Notification.

Filed Date: 4/22/24.

Accession Number: 20240422-5366.

Comment Date: 5 p.m. ET 5/13/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 24, 2024.
Debbie-Anne A. Reese,
Acting Secretary.

[FR Doc. 2024-09290 Filed 4-29-24; 8:45 am]

BILLING CODE 6717-01-P